DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 24, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on June 3, 2019.
Donald P. Burger,
Chief, General Approvals and Permits Branch.

Special Permits Data
Application No. | Applicant | Regulation(s) affected | Nature of the special permits thereof
7657-M | WELKER, INC | 173.201, 173.202, 173.203, 173.301(f)(2), 173.302a(a)(1), 173.304(a), 177.840(a)(1) | To modify the special permit to add additional hazmat. (modes 1, 2, 3, 4)
10501-M | SEMI-BULK SYSTEMS, INC | 180.352(d) | To modify the special permit to authorize the repair of UN13L2 flexible IBCs with a larger capacity and different cross-sectional shape. (modes 1, 2, 3)
11110-M | UNITED PARCEL SERVICE CO | 171.8, 175.75 | To modify the special permit to add additional air carriers. (mode 4)
11859-M | CARLETON TECHNOLOGIES, INC | 173.301(f), 173.302a(a), 178.65 | To modify the special permit to update the tube welding test procedure to the most current production drawings. (modes 1, 2, 4)
12516-M | POLY-COAT SYSTEMS, INC | 107.503(b), 107.503(c), 173.241, 173.242 | To modify the special permit to remove the request to get authorization from the Approvals and Permits Division before modifying, stretching or re-barreling. (mode 1)
14526-M | KIDDE TECHNOLOGIES INC | 173.302, 173.302a | To modify the special permit to add additional safety control measures. (modes 1, 2, 3, 4)
14576-M | STRUCTURAL COMPOSITES INDUSTRIES LLC | 172.101(j), 173.302a(a)(1) | To modify the special permit to reduce the burst pressure from 3.4 times service pressure to 3.0 times the service pressure. (modes 1, 3, 4)
15279-M | UNIVERSITY OF COLORADO AT BOULDER, EHS | 172.301(a), 172.301(b), 172.301(c), 173.196(a), 173.196(b), 178.609 | To modify the special permit to authorize a new destination for the material transfer. (mode 1)
16118-M | TOYOTA MOTOR SALES USA INC | 173.301(a)(1) | To modify the special permit to include language that the permit acts like a competent authority for international shipments. (modes 1, 2, 3, 4)
16140-M | ERA HELICOPTERS, LLC | 172.101(j) | To modify the special permit to add additional hazmat, to expand the transport zones and to add support for the space program. (mode 5)
16172-M | ENTEGRIS, INC | 173.301(f) | To modify the special permit to authorize an additional hazmat. (modes 1, 3)
16308-M | VERO BIOTECH LLC | 173.175 | To modify the special permit to clarify the packaging used description. (modes 1, 2, 3, 4, 5)
16524-M | QUANTUM FUEL SYSTEMS LLC | 173.302(a) | To modify the special permit to authorize a lighter class of tow vehicle. (modes 1, 2, 3)
20323-M | GENERAL DYNAMICS MISSION SYSTEMS, INC | 173.185(a)(1)(i) | To modify the special permit to authorize the transportation of prototype, and low-production lithium ion batteries contained in equipment. (mode 4)
20323-M | GENERAL DYNAMICS MISSION SYSTEMS, INC | 173.185(a)(1)(i) | To modify the special permit to authorize transportation of prototype Lithium Ion Batteries and Lithium Metal Batteries contained in equipment. (mode 4)
20352-M | SCHLUMBERGER TECHNOLOGY CORP | 173.301(f), 173.302(a), 173.304(a), 173.304(d), 178.36(f) | To modify the special permit to authorize a thinner cylinder wall thickness of the cylinder. (modes 1, 2, 3)
20396-M | HEXAGON DIGITAL WAVE LLC | 180.205(g) | To modify the special permit to authorize the requalification of tanks manufactured under DOT-SP 20391, 16524, 20507 and 20418 using modal acoustic emission (MAE) test method. (modes 1, 2, 3)
20549-M | CELLBLOCK FCS, LLC | 172.400, 172.700(a), 172.102(c)(1), 172.200, 172.300 | To modify the special report to correct the holder name. (modes 1, 3)
20549-M | CELLBLOCK FCS, LLC | 172.400, 172.700(a), 172.102(c)(1), 172.200, 172.300 | To modify the special permit to authorize the transportation in commerce of larger batteries (Wh > 300) without shipping papers, labeling, marking and training. (modes 1, 3)
20571-M | CATALINA CYLINDERS, INC | 173.302a, 178.71(l)(1)(i), 178.71(l)(1)(ii) | To modify the special permit to authorize a 15 year service life from the cylinder's date of manufacture. (modes 1, 2, 3, 4)
20687-M | DEPARTMENT OF DEFENSE (MILITARY SURFACE DEPLOYMENT & DISTRIBUTION COMMAND) | 172.203(a), 172.203(k), 172.301(c) | To modify the special permit to add additional Division 6.1 hazmat. (modes 1, 4, 5)
20709-M | DAIMLER AG | 172.101(j), 173.185(a) | To modify the special permit to authorize an increase in the battery and package weight. (mode 4)

[FR Doc. 2019-11969 Filed 6-6-19; 8:45 am]

BILLING CODE 4909-60-P